DEPARTMENT OF THE INTERIOR

Bureau of Land Management

[SDM 76798]

Notice of Proposed Withdrawal Extension and Opportunity for Public Meeting; South Dakota

AGENCY: Bureau of Land Management, Interior.

ACTION: Notice.

SUMMARY: The United States Department of Agriculture (USDA) Forest Service has filed an application with the Bureau of Land Management (BLM) proposing to extend the duration of Public Land Order (PLO) No. 6782 for an additional 20-year term. PLO No. 6782 withdrew 2,387.22 acres of National Forest System land from location and entry under United States mining laws in order to protect the unique cave resources in the area surrounding Jewel Cave National Monument. PLO No. 6782 will expire on May 17, 2010, unless extended. This notice also gives the public an opportunity to comment on the proposed action and to request a public meeting.

DATES: Comments and requests for a public meeting must be received by April 5, 2010.

ADDRESSES: Comments and meeting requests should be sent to the Regional Forester, Rocky Mountain Region, 740 Simms Street, Golden, Colorado 80401, or the Montana State Director (MT-924), Bureau of Land Management, 5001 Southgate Drive, Billings, Montana 59101-4669.

FOR FURTHER INFORMATION CONTACT: Valerie Hunt, USDA Forest Service, Rocky Mountain Region, 740 Simms Street, Golden, Colorado 80401, 303-275-5071, or Sandra Ward, BLM Montana State Office, 5001 Southgate Drive, Billings, Montana 59101-4669, 406-896-5052.

SUPPLEMENTARY INFORMATION: The USDA Forest Service has filed an application requesting that the Secretary of the Interior extend the duration of PLO No. 6782 (55 FR 20766, (1990)), which, subject to valid existing rights, withdrew certain land in Custer County, South Dakota, from location and entry under the mining laws (30 U.S.C. Ch. 2) for an additional 20 years. The area described contains 2,387.22 acres in Custer County as follows:

Black Hills Meridian

Black Hills National Forest

T. 3 S., R. 2 E.,

Sec. 34, S½S½.

T. 4 S., R. 2 E.,

Sec. 2, lot 4, SW¼NW¼, SW¼ excluding that portion of the NE¼NE¼SW¼ east of the U.S. Highway 16; and those portions of lot 3, SW¼NE¼, and SE¼NW¼ west of U.S. Highway 16;

Sec. 3, lots 1 to 4, inclusive, S½N½, and S½;

Sec. 10, N½;

Sec. 11, N½;

Sec. 12, S½N½.

T. 4 S., R. 3 E.,

Sec. 6, lots 6 and 7, E½SW¼, and W½SE¼;

Sec. 7, lots 1 and 2, W½NE1/4;, and E½NW1/4;.

The area described contains 2,387.22 acres in Custer County.

The purpose of the proposed extension is to continue the withdrawal created by PLO No. 6782 for an additional 20-year term to protect the unique cave resources in the area surrounding the Jewel Cave National Monument.

As extended, the withdrawal would not alter the applicability of those public land laws governing the use of National Forest System lands under lease, license, or permit or governing the disposal of the mineral or vegetative resources other than under the mining laws.

The use of a right-of-way or interagency or cooperative agreement would not adequately protect this area.

There are no suitable alternative sites available. The Jewel Cave formations are unique to this area and follow the local geology.

No water will be needed to fulfill the purpose of the requested withdrawal extension.

For a period of 90 days from the date of publication of this notice, all persons who wish to submit comments, suggestions, or objections in connection with the proposed withdrawal extension may present their views in writing to the BLM Montana State Director at the address noted above. Comments, including names and street addresses of respondents, and records relating to the application will be available for public review at the BLM Montana State Office at the address stated above, or the Forest Supervisor's Office, Black Hills National Forest, 1019 North 5th Street, Custer, South Dakota 57730, during regular business hours.

Individual respondents may request confidentiality. Before including your address, phone number, e-mail address, or other personal identifying information in your comment, be advised that your entire comment—including your personal identifying information—may be made publicly available at any time. While you can ask us in your comment to withhold from public review your personal identifying information, we cannot guarantee that we will be able to do so.

Notice is hereby given that an opportunity for a public meeting is afforded in connection with the proposed withdrawal extension. All interested persons who desire a public meeting for the purpose of being heard on the proposed withdrawal extension must submit a written request to the BLM Montana State Director by April 5, 2010. Upon determination by the authorized officer that a public meeting will be held, a notice of the time and place will be published in the Federal Register and at least one local newspaper at least 30 days before the scheduled date of the meeting.

The application will be processed in accordance with the applicable regulations set forth in 43 CFR 2310.4.

(Authority: 43 CFR 2310.3-1)

Cynthia Staszak,
Chief, Branch of Land Resources.

[FR Doc. E9-31249 Filed 1-4-10; 8:45 am]

BILLING CODE 3410-11-P